COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List that were furnished by nonprofit agencies employing persons who are blind or have other severe disabilities.

DATES: Date deleted from the Procurement List: October 6, 2019.

ADDRESSES: Committee for Purchase From People Who Are Blind or Severely Disabled, 1401 S. Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 8/2/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN—Product Name: 7045-01-365-2069—Diskettes, Formatted, 1.44 MB, 3.5″, BX/10

Mandatory Source of Supply: North Central Sight Services, Inc., Williamsport, PA

Contracting Activity: DLA Troop Support, Philadelphia, PA

NSN—Product Name: MR 331—Pitter, Cherry and Olive

Mandatory Source of Supply: Cincinnati Association for the Blind, Cincinnati, OH

Contracting Activity: Military Resale-Defense Commissary Agency

NSN—Product Name: 9905-00-565-6267—Sign-Kit, Vehicle Weight

Mandatory Source of Supply: CW Resources, Inc., New Britain, CT

Contracting Activity: GSA/FSS Greater Southwest Acquisiti, Fort Worth, TX

Services

Service Type: Custodial and Related Services, Custodial service

Mandatory for: GSA PBS Region 4, Federal Building Courthouse, 50 Main Street, Bryson City, NC

Mandatory Source of Supply: Portco, Inc., Portsmouth, VA

Contracting Activity: Public Buildings Service, Acquisition Division/Services Branch

Service Type: Mailroom Support Services

Mandatory for: Bureau of Land Management, Arizona State Office: 222 Central Avenue, Phoenix, AZ

Mandatory Source of Supply: The Centers for Habilitation/TCH, Tempe, AZ

Contracting Activity: Office of Policy, Management, and Budget, NBC Acquisition Services Division

Service Type: Grounds Maintenance

Mandatory for: U.S. Geological Survey: Florida Caribbean Science Center, Gainesville, FL

Mandatory Source of Supply: The Arc of Alachua County, Inc., Gainesville, FL

Contracting Activity: Office of Policy, Management, and Budget, NBC Acquisition Services Division

Service Type: Furniture Moving Services

Mandatory for: U.S. Forest Service, 1720 Peachtree Road, NW, Atlanta, GA

Mandatory Source of Supply: Bobby Dodd Institute, Inc., Atlanta, GA

Contracting Activity: Forest Service, Dept of Agric/Forest Service

Service Type: Toner Cartridge Remanufacturing

Mandatory for: Department of Energy, Washington, DC

Mandatory Source of Supply: Rappahannock Goodwill Industries, Inc., Fredericksburg, VA

Contracting Activity: Energy, Department of, Headquarters Procurement Services

Service Type: Janitorial/Custodial

Mandatory for: Department of Veterans Affairs: Franklin D. Roosevelt Hospital, Buildings 17, 18, 29, 30, 52, Paint Shop & Chapel. Montrose, NY

Service Type: Janitorial/Related Exterior Maintenance

Mandatory for: Veterans Affairs Outpatient Clinic, 351 East Temple Street, Los Angeles, CA

Mandatory Source of Supply: Asian Rehabilitation Services, Inc., Los Angeles, CA

Service Type: Janitorial/Custodial

Mandatory for: Department of Veterans Affairs: Lompoc Clinic, Lompoc, CA

Mandatory Source of Supply: Life Options, Vocational and Resource Center, Lompoc, CA

Contracting Activity: Veterans Affairs, Department of, NAC

Service Type: Mailing Services

Mandatory for: GSA, National Archive and Record Service, Washington, DC

Mandatory Source of Supply: The ARC of the District of Columbia, Inc., Washington, DC

Contracting Activity: General Services Administration

Service Type: Janitorial/Custodial

Mandatory for: FAA Flight Standards District Office: 9191 Plank Road, Baton Rouge, LA

Mandatory Source of Supply: Louisiana Industries for the Disabled, Inc., Baton Rouge, LA

Contracting Activity: Transportation, Department of, Dept of Trans

Service Type: Laundry Service

Mandatory for: Veterans Affairs Medical Center: 7305 N Military Trail, West Palm Beach, FL

Mandatory Source of Supply: Gulfstream Goodwill Industries, Inc., West Palm Beach, FL

Contracting Activity: Veterans Affairs, Department of, 548P-West Palm Prosthetics

Service Type: Document Destruction

Mandatory for: National Archives & Records Administration, Perris, CA

Mandatory Source of Supply: Goodwill Industries of Southern California, Panarama City, CA

Contracting Activity: National Archives and Records Administration, NARA Facilities

Patricia Briscoe,
Deputy Director, Business Operations (Pricing and Information Management).

[FR Doc. 2019-19258 Filed 9-5-19; 8:45 am]

BILLING CODE 6353-01-P